FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 27, 2012.

A. Federal Reserve Bank of Kansas City (Dennis Denney, Assistant Vice President) 1 Memorial Drive, Kansas City, Missouri 64198-0001:

1. Tom Saunders, individually, and with Brittanie Ann Saunders Trust, Marissa Kay Saunders Trust, Rachel Christine Saunders Trust, Emma Nichole Saunders Trust, Benjamin Don Saunders Trust, Garret Alexander Saunders Trust, Madison Ann Saunders Trust, Rebecca Ann Lutter Trust, Claire Elizabeth Lutter Trust, and Hallie Ann Lutter Trust, all of Douglas, Wyoming, as members of the Saunders Family Group acting in concert; to retain control of Converse County Capital Corporation, and thereby indirectly retain control of Converse County Bank, both in Douglas, Wyoming.

Board of Governors of the Federal Reserve System, August 7, 2012.
Margaret McCloskey Shanks,
Associate Secretary of the Board.

[FR Doc. 2012-19641 Filed 8-9-12; 8:45 am]

BILLING CODE 6210-01-P